FEDERAL COMMUNICATIONS COMMISSION

[CC Docket No. 01-9; FCC 01-130]

Application by Verizon New England Inc., Bell Atlantic Communications, Inc. (d/b/a Verizon Long Distance), NYNEX Long Distance Company (d/b/a Verizon Enterprise Solutions) and Verizon Global Networks Inc., Pursuant to Section 271 of the Telecommunications Act of 1996, for Authorization To Provide In-Region InterLATA Services in the State of Massachusetts

AGENCY: Federal Communications Commission.

ACTION: Notice; correction.

SUMMARY: The Federal Communications Commission published a document in the Federal Register on April 23, 2001, in CC Docket No. 01-9, Application by Verizon New England, Inc., et al., For Authorization to Provide In-Region, InterLATA Services in Massachusetts. The document contained an incorrect effective date.

FOR FURTHER INFORMATION CONTACT: Susan Pie, (202) 418-1580.

Correction

In the Federal Register of April 23, 2001, in FR Doc. 01-10090, on page 20455, in the third column, correct the Dates caption to read:

DATES: Effective April 26, 2001.

Federal Communications Commission.
Magalie Roman Salas,
Secretary.

[FR Doc. 01-10866 Filed 5-1-01; 8:45 am]

BILLING CODE 6712-01-P